DEPARTMENT OF AGRICULTURE

Forest Service

36 CFR Part 294

Idaho Roadless Rule

AGENCY: Forest Service, USDA.

ACTION: Proposed rule.

SUMMARY: Pursuant to 36 CFR 294.27 the Forest Service, U.S. Department of Agriculture (USDA), is proposing to modify Idaho Roadless Area boundaries for the Big Creek, Grandmother Mountain, Pinchot Butte, Roland Point, Wonderful Peak Idaho Roadless Areas on the Idaho Panhandle National Forests to reflect lands acquired within and/or adjacent to these roadless areas. In addition, modifications to correct mapping errors involving Forest Plan Special Areas in the Salmo-Priest, and Upper Priest Idaho Roadless Areas are addressed. An administrative correction is proposed to § 294.29 to add the Buckhorn Ridge Idaho Roadless Areas to the list under the Kootenai National Forest.

Notice is given pursuant to 36 CFR 294.27(b), that the Chief proposes to issue the modifications after a 45-day public notice and opportunity to comment.

DATES: Comments must be received, in writing, on or before June 3, 2013.

ADDRESSES: Written comments concerning this document should be addressed to Idaho Roadless Area Idaho Panhandle Correction, Northern Regional Office, 200 East Broadway, P.O. Box 7669, Missoula, MT 59807-7669. Comments may also be sent via email to comments-northern-regional-office@fs.fed.us, or via facsimile to (406) 329-3314.

All comments, including names and addresses when provided, are placed in the record and are available for public inspection and copying. The public may inspect comments received at http://roadless.fs.fed.us.

FOR FURTHER INFORMATION CONTACT: Idaho Roadless Coordinator Anne Davy at (406) 329-3314. Additional information concerning this administrative correction, including the proposed corrected maps, may be obtained on the Internet at http://roadless.fs.fed.us. Individuals who use telecommunication devices for the deaf (TDD) may call the Federal Information Relay Service (FIRS) at 1-800-877-8339 between 8:00 a.m. and 8:00 p.m., Eastern Standard Time, Monday through Friday.

SUPPLEMENTARY INFORMATION: The following modifications and corrections are proposed to update five roadless areas due to land exchanges that occurred since the Idaho Roadless Rule was finalized; correct two roadless area mapping errors associated with Forest Plan Special Areas; and correct the list at 36 CFR 294.29 becaused an area had been inappropriately shown as only located on the Idaho Panhandle National Forest instead of split between the Idaho Panhandle and Kootenai National Forests. For purposes of this request for comment all of these changes will be referred to as “modifications”. These modifications were discussed with the State of Idaho Implementation Committee on April 5, 2012, and the Govenor of Idaho has since recommended the Forest Service proceed with these modifications. The modifications are necesasary to update and correct the Idaho Roadless Rule acreages and boundaries and make minor theme adjustments.

Modifications Due to Lands Aquired Through Land Exchanges

The following Idaho Roadless Areas will be modified due to lands acquired through land exchanges that occurred since the Idaho Roadless Rule was finalized in the fall of 2008. These modifications will update the maps with correct ownership and management classifications.

Big Creek Idaho Roadless Area #143. Two parcels of land, 158 acres, will be added to the Big Creek roadless area and will be classified as Backcountry Restoration. These proposed modifications occur in T46N, R2E, section 11; and T47N, R2E, section 35, Boise Meridian and were part of the Spooky Butte Land Exchange.

Grandmother Mountain Idaho Roadless Area #148. Five parcels of land, 1,107 acres, will be added to Grandmother Mountain roadless area and will be classified as Backcountry Restoration. These proposed modifications occur in T43N, R3E, section 26; and T43N, R4E, sections 5, 7, 17, and 31, Boise Meridian and were part of the Grandmother Mountain Land Exchange and an unnamed land exchange with a single party.

Pinchot Butte Idaho Roadless Area #149. One parcel of land, 80 acres will be added to Pinchot Butte roadless area and will be classified as Backcountry Restoration. Bureau of Land Management lands surround this parcel on three sides and are also roadless. These proposed modifications occur in T43N, R4E, section 33, Boise Meridian and were part of the Grandmother Mountain Land Exchange.

Roland Point Idaho Roadless Area #146. One parcel of land, 60 acres, will be added to Roland Point roadless area and will be classified as Backcountry Restoration. These proposed modifications occur in T47N, R6E, sections 29, 31, and 32, Boise Meridian and were part of the Lucky Swede Land Exchange.

Wonderful Peak Idaho Roadless Area #152. One parcel of land, 59 acres, will be added to Wonderful Peak roadless area and will be classified as Backcountry Restoration. These proposed modifications occur in T47N, R6E, sections 19 and 20, Boise Meridian and were part of the Olson Wondeful Land Exchange.

Technical Corrections to Theme Classifications

Salmo-Priest Idaho Roadless Area #981. The Idaho Roadless Rule will be modified to correct a mapping error. A small portion (65 acres) of the Salmo-Priest Idaho Roadless Rule will be changed from a Forest Plan Special Area to Wild Land Recreation. This change reflects the width of the eligible Wild and Scenic River (Hughes Fork) located in this section. These proposed modifications occur in T63N, R5W, sections 5 and 6; T64N, R5W, sections 20, 28 and 29, Boise Meridian.

Upper Priest Idaho Roadless Area #123. The Idaho Roadless Rule will be modified to correct a mapping error. A small portion (112 acres) of the Upper Priest Roadless Area will be changed from Backcountry/Restoration to a Forest Plan Special Area. This change reflects the width of the eligible Wild and Scenic River (Hughes Fork) located in this section. These proposed modifications occur in T62N, R4W, sections 6, 7 and 8; T62N, R5W, section 1; T63N, R5W, sections 12, 13, 16, 21, 28, 33, and 34, Boise Meridian.

List of Subjects in 36 CFR Part 294

National Forests, Navigation (air), Recreation areas, State petitions for inventoried roadless area management.

For the reasons set forth in the preamble, the Forest Service proposes to amend part 294 of Title 36 of the Code of Federal Regulations by making the following technical corrections:

PART 294—SPECIAL AREAS

1. The authority citation for part 294 continues to read as follows:

Authority: 16 U.S.C. 472, 551, and 1131.

Subpart C—Idaho Roadless Area Management

2. Amend the table in § 294.29 by adding a new entry for Kootenai National Forest to read as follows:

§ 294.29 List of designated Idaho Roadless Areas.

* * * * *

Forest | Idaho roadless area | Number | WLR | Primitive | BCR | GFRG | SAHTS | FPSA
Kootenai | Buckhorn Ridge | 661 |  |  | X |  |  |

* * * * *

Dated: March 13, 2013.
Thomas L. Tidwell,
Chief.

[FR Doc. 2013-08838 Filed 4-18-13; 8:45 am]

BILLING CODE 3410-11-P